DEPARTMENT OF JUSTICE

Corrected Notice of Lodging Proposed Consent Decree

In accordance with Departmental Policy, 28 CFR 50.7, notice is hereby given that a proposed Consent Decree in United States v. Richard M. Osborne, Sr., et al., Case No. 1:11-cv-2039-CAB, was lodged with the United States District Court for the Northern District of Ohio on August 10, 2018.

This proposed Consent Decree concerns a complaint filed by the United States against Defendants Richard M. Osborne, Sr., Great Plains Exploration, LLC, Center Street Investments, Inc., Callendar Real Estate Development Company, LLC, and Osair, Inc., pursuant to Sections 301(a), 309(b), and 309(d) of the Clean Water Act, 33 U.S.C. 1311(a), 1319(b), and 1319(d), to obtain injunctive relief from and impose civil penalties against the Defendants for violating the Clean Water Act by discharging pollutants without a permit into waters of the United States. The proposed Consent Decree resolves these allegations by requiring the Defendants to mitigate for the harms caused by the impacted areas.

The Department of Justice will accept written comments relating to this proposed Consent Decree for thirty (30) days from the date of publication of this Corrected Notice. Please address comments to Phillip R. Dupré, United State Department of Justice, Environment and Natural Resources Division, Post Office Box 7611, Washington, DC 20044-7611 and refer to United States v. Richard M. Osborne, Sr., et al., Case No. 1:11-cv-2039-CAB, DJ #90-5-1-1-18628.

The proposed Consent Decree may be examined at the Clerk's Office, United States District Court for the Northern District of Ohio, Carl B. Stokes United States Courthouse, 801 West Superior Avenue, Cleveland, OH 44113. In addition, the proposed Consent Decree may be examined electronically at http://www.justice.gov/enrd/Consent_Decrees.html.

Cherie L. Rogers,
Assistant Section Chief, Environmental Defense Section, Environment and Natural Resources Division.

[FR Doc. 2018-18871 Filed 8-30-18; 8:45 am]

BILLING CODE 4410-15-P